DEPARTMENT OF AGRICULTURE

Animal and Plant Health Inspection Service

7 CFR Part 319

[Docket No. APHIS-2005-0106]

RIN 0579-AB80

Revision of Fruits and Vegetables Import Regulations; Technical Amendment

AGENCY: Animal and Plant Health Inspection Service, USDA.

ACTION: Final rule; technical amendment.

SUMMARY: In a final rule published in the Federal Register on July 18, 2007, we revised and reorganized the regulations pertaining to the importation of fruits and vegetables. As explained in the preamble, the regulatory text included changes made to the fruits and vegetables regulations by several other final rules that were published just prior to July 18. This technical amendment is necessary to correct an error in the way we set out the requirements established in a final rule published on June 21, 2007, for importing certain fruit from Thailand. This technical amendment also clarifies requirements for importing pineapple from Thailand into Guam and the Commonwealth of the Northern Mariana Islands.

DATES: This technical amendment is effective August 24, 2007.

FOR FURTHER INFORMATION CONTACT: Mr. Alex Belano, Import Specialist, Commodity Import Analysis and Operations, PPQ-PRI, APHIS, 4700 River Road Unit 133, Riverdale, MD 20737; (301) 734-8758.

SUPPLEMENTARY INFORMATION: In a final rule published in the Federal Register on July 18, 2007 (72 FR 39482-39528, Docket No. APHIS-2005-0106), and effective on August 17, 2007, we revised and reorganized our regulations pertaining to the importation of fruits and vegetables. Among other things, the final rule established criteria that, if met, will allow us to approve certain new fruits and vegetables for importation into the United States more effectively and expeditiously by way of a notice-based process and to do away with the practice of listing in the regulations specific commodities that may be imported subject to certain types of phytosanitary measures.

As explained in the preamble, the regulatory text included changes made to the fruits and vegetables regulations by several other final rules published just prior to July 18. In one of those other final rules, published on June 21, 2007 (72 FR 34163-34176, Docket No. APHIS-2006-0040), and effective on July 23, 2007, we amended the fruits and vegetables regulations to allow the importation into the United States of litchi, longan, mango, mangosteen, pineapple, and rambutan from Thailand under certain conditions. As a condition of entry, those fruits must be grown in production areas that are registered with and monitored by the national plant protection organization of Thailand, treated with irradiation in Thailand, and subject to inspection. The fruits must also be accompanied by a phytosanitary certificate with an additional declaration stating that the fruit had been treated with irradiation in Thailand. In the case of litchi, the additional declaration must also state that the fruit had been inspected and found to be free of Peronophythora litchii, a fungal pest of litchi. Additionally, under that final rule, litchi and longan imported from Thailand may not be imported into or distributed to the State of Florida, due to the presence of litchi rust mite in Thailand.

In the July 18 final rule, we stated that mango, mangosteen, pineapple, and rambutan required only mitigations that were eligible for the notice-based approach and as such, it was not necessary to list those commodities in the regulations. This was incorrect because the growing condition requirements for those fruits exceed the designated measures provided in the July 18 final rule. We also noted that litchi and longan had labeling requirements that went beyond the designated measures set forth in the final rule, making it necessary to add entries for litchi and longan from Thailand to the table in § 319.56-13 of the final rule. While it is necessary to include litchi and longan from Thailand in the regulations, we should have done so by listing their requirements for importation in a new section in order to specify that litchi and longan from Thailand are subject to additional measures besides inspection and labeling requirements. Therefore, the conditions governing the importation of litchi, longan, mango, mangosteen, pineapple, and rambutan from Thailand need to remain in the regulations. In addition, we provide in the table in § 319.56-13 that certain varieties of pineapples from Thailand may be imported into Guam and the Northern Mariana Islands without treatment; however, we neglected to note in the table that pineapples from Thailand may also be imported into the continental United States under the conditions provided in the June 21 final rule. Therefore, in this document we are amending the entry for Thailand in the table in § 319.56-13(a) by amending the provisions for pineapple and by removing the provisions for litchi and longan. We are also adding a new § 319.56-47, “Certain fruits from Thailand.”

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.56-13, in the table in paragraph (a), the entry for Thailand is revised and a new footnote 3 is added to the table to read as follows:

§ 319.56-13 Fruits and vegetables allowed importation subject to specified conditions.

(a) * * *

Country/locality of origin | Common name | Botanical name | Plant part(s) | Additional requirements
* * * * * * *
Thailand | Pineapple ³ | Ananas comosus | Fruit | (b)(2)(xi), (b)(5)(vi).
* * * * * * *

* * * * *

³ Also eligible for importation in accordance with the provisions listed in § 319.56-47.

* * * * *

3. A new § 319.56-47 is added to read as follows:

§ 319.56-47 Certain fruits from Thailand.

Litchi (Litchi chinensis), longan (Dimocarpus longan), mango (Mangifera indica), mangosteen (Garcinia mangoestana L.), pineapple (Ananas comosus), and rambutan (Nephelium lappaceum L.) may be imported into the United States from Thailand only under the following conditions:

(a) Growing conditions. Litchi, longan, mango, mangosteen, pineapple, and rambutan must be grown in a production area that is registered with and monitored by the national plant protection organization of Thailand.

(b) Treatment. Litchi, longan, mango, mangosteen, pineapple, and rambutan must be treated for plant pests of the class Insecta, except pupae and adults of the order Lepidoptera, with irradiation in accordance with § 305.31 of this chapter. Treatment must be conducted in Thailand prior to importation of the fruits into the United States.

(c) Phytosanitary certificates. (1) Litchi must be accompanied by a phytosanitary certificate with an additional declaration stating that the litchi were treated with irradiation as described in paragraph (b) of this section and that the litchi have been inspected and found to be free of Peronophythora litchi.

(2) Longan, mango, mangosteen, pineapple, and rambutan must be accompanied by a phytosanitary certificate with an additional declaration stating that the longan, mango, mangosteen, pineapple, or rambutan were treated with irradiation as described in paragraph (b) of this section.

(d) Labeling. In addition to meeting the labeling requirements in § 305.31, cartons in which litchi and longan are packed must be stamped “Not for importation into or distribution in FL.”

Done in Washington, DC, this 20th day of August 2007.
Kevin Shea,
Acting Administrator, Animal and Plant Health Inspection Service.

[FR Doc. E7-16832 Filed 8-23-07; 8:45 am]

BILLING CODE 3410-34-P